DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: May 18, 2023, 10:00 a.m.

PLACE: Room 2C, 888 First Street NE, Washington, DC 20426.

STATUS: Open to the public.

MATTERS TO BE CONSIDERED: Agenda. * Note—Items listed on the agenda may be deleted without further notice.

CONTACT PERSON FOR MORE INFORMATION: Kimberly D. Bose, Secretary, Telephone (202) 502-8400.

For a recorded message listing items stricken from or added to the meeting, call (202) 502-8627.

This is a list of matters to be considered by the Commission. It does not include a listing of all documents relevant to the items on the agenda. All public documents, however, may be viewed online at the Commission's website at https://elibrary.ferc.gov/eLibrary/search using the eLibrary link.

1101st—MEETING
[Open Meeting; May 18, 2023, 10:00 a.m.]
Item No. | Docket No. | Company
Administrative
A-1 | AD23-1-000 | Agency Administrative Matters.
A-2 | AD23-2-000 | Customer Matters, Reliability, Security and Market Operations.
A-3 | AD06-3-000 | 2023 Summer Energy Market and Reliability Assessment
Electric
E-1 | RD22-4-001 | North American Electric Reliability Corporation.
E-2 | ER23-1511-000 TS23-3-000 | Arroyo Solar LLC.
E-3 | ER22-2359-000 | PJM Interconnection, L.L.C.
E-4 | ER22-2339-000 | Southwest Power Pool, Inc.
E-5 | ER22-2310-000 | PacifiCorp.
E-6 | ER22-2293-000 | Dominion Energy South Carolina, Inc.
E-7 | ER22-2317-000 | Portland General Electric Company.
E-8 | ER22-2346-000 | El Paso Electric Company.
E-9 | ER22-2356-000 | Public Service Company of Colorado.
E-10 | ER22-2345-000 | NorthWestern Corporation.
E-11 | ER22-2360-000 | Tri-State Generation and Transmission Association, Inc.
E-12 | ER23-430-001; ER23-431-001 | Evergy Kansas Central, Inc.
| ER23-433-001 | Southwest Power Pool, Inc.
E-13 | OMITTED |
E-14 | ER22-2385-001; ER22-2385-000 | Panorama Wind, LLC.
E-15 | ER16-2320-007; ER16-2320-009 | Pacific Gas and Electric Company.
E-16 | ER21-2455-003; ER21-2455-004 | California Independent System Operator Corporation.
E-17 | EL23-42-000 | Soltage Executive Employees, LLC.
E-18 | ER23-1544-000 | Otter Tail Power Company.
E-19 | EC98-2-005; ER18-2162-004 | Louisville Gas and Electric Company and Kentucky Utilities Company.
E-20 | AD21-15-000 | Joint Federal-State Task Force on Electric Transmission.
Gas
G-1 | PL23-2-000 | Policy Statement on Proposed Penalty Guidelines for Natural Gas Act Project Violations.
Hydro
H-1 | P-15261-000 | Nevada Hydro Company, Inc.
H-2 | OMITTED |
H-3 | DI21-1-001 | Badger Mountain Hydro, LLC.
Certificates
C-1 | CP17-458-021 | Midship Pipeline Company, LLC.
C-2 | CP22-514-000 | Corpus Christi Liquefaction, LLC
C-3 | CP18-512-000 | Corpus Christi Liquefaction, LLC and Corpus Christi Liquefaction Stage III, LLC
C-4 | CP19-502-002 | Commonwealth LNG, LLC
C-5 | CP22-461-000 | Transcontinental Gas Pipe Line Company, LLC.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: May 11, 2023.
Debbie-Anne A. Reese,
Deputy Secretary.

[FR Doc. 2023-10517 Filed 5-12-23; 4:15 pm]

BILLING CODE 6717-01-P